INTERNATIONAL TRADE COMMISSION

[Investigation No. 337-TA-647]

In the Matter of Certain Hand-Held Meat Tenderizers; Notice of Decision Not To Review an Initial Determination Terminating the Investigation Based on the Withdrawal of the Complaint

AGENCY: U.S. International Trade Commission.

ACTION: Notice.

SUMMARY: Notice is hereby given that the U.S. International Trade Commission has determined not to review an initial determination (“ID”) (Order No. 6) issued by the presiding administrative law judge (“ALJ”) terminating the investigation based on the withdrawal of the complaint.

FOR FURTHER INFORMATION CONTACT: Mark B. Rees, Office of the General Counsel, U.S. International Trade Commission, 500 E Street, SW., Washington, DC 20436, telephone (202) 205-3116. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On May 8, 2008, the Commission instituted this investigation based on the complaint, as supplemented, of Jaccard Corporation of Orchard Park, New York (“Jaccard”), alleging violations of section 337 of the Tariff Act of 1930 in the importation into the United States, the sale for importation, and the sale within the United States after importation of certain hand-held meat tenderizers by reason of infringement of U.S. Trademark Registration No. 1,172,879 and also by reason of infringement of trade dress. 73 FR 27846 (May 14, 2008). The respondents are Keystone Manufacturing, Inc. of Buffalo, New York and Mr. Bar-B-Q-, Inc. of Old Bethpage, New York. 73 FR 41117 (July 17, 2008).

On August 26, 2008, Jaccard moved to withdraw its complaint and terminate the investigation as to all respondents “without prejudice.” Respondents objected on the ground that the termination should be “with prejudice.” The investigative attorney argued that the investigation should be terminated based on the withdrawal of the complaint without styling the termination as either with or without prejudice. The ALJ agreed and therefore granted the termination without stating that it is “with prejudice” or “without prejudice.” No petitions for review of this ID were filed. The Commission has determined not to review this ID.

The authority for the Commission's determination is contained in section 337 of the Tariff Act of 1930, as amended (19 U.S.C. 1337), and section 210.42 of the Commission's Rules of Practice and Procedure (19 CFR 210.42).

Issued: September 24, 2008.
By order of the Commission.
Marilyn R. Abbott,
Secretary to the Commission.

[FR Doc. E8-22862 Filed 9-29-08; 8:45 am]

BILLING CODE 7020-02-P